DEPARTMENT OF THE INTERIOR

Bureau of Land Management

[ES-930-1320-AC-KYES-34711]

Lease Modification Application for Coal Lease KYES 34711

AGENCY: Bureau of Land Management, Department of the Interior.

ACTION: Notice of Public Hearing and Availability of Environmental Assessment.

SUMMARY: Eastern States hereby gives notice that a public hearing will be held for comments on the environmental assessment, maximum economic recovery, and the fair market value of the coal resources covered by an application for modification of Coal Lease KYES 3471. Appolo Fuels Incorporated filed the lease modification application in accordance with 43 CFR 3432. The potentially bypass coal resource to be mined by UNDERGROUND mining methods from the Poplar Lick and Stray “C” coal seams in the Kentucky Ridge State Forest (KY-LU-1, Tract 1101a) Bell County, Kentucky. This lease modification application is to add 160 acres to Federal lease KYES 34711 and State lease CLR-795. The tract would be accessed from underground and is north of private reserves leased to Appolo Fuels, Inc. The eastern and northern boundary extends to the outcrop of the coal seam and the western boundary is contiguous to Federal lease KYES 34711 and State lease CLR795. The 160-acre modification to the Federal lease KYES 34711 was delineated as a result an application by the lessee. The BLM geologic report estimates 737,300 Federal and 245,800 State tons in the coal reserve base of the lease modification area. Due to the thinness of the seam, the coal reserve base (as defined in 43 CFR 3480.0.5(a)(5)) does not include the Buckeye Springs seam. Mining on the existing lease tract and on adjoining private land will proceed with or without the Federal lease modification tract. The proposed action will protect the Federal and State interest by preventing the underground bypass of 307,200 tons of recoverable reserves, the loss of $607,000 royalty to the general funds, and by providing an overall $4,366,500 positive economic impact. Of the 307,200 tons, 259,200 tons are in the lease modification tract and 48,000 tons are in the existing lease. The 48,000 tons can only be mined from proposed portals.

We have found the quality range of the coal beds is as follows:

Coal Quality—Dry Basis
Seam | DH# | ASH | Volatile | Fixed carbon | B.T.U. | Sulfur
Stray “C” | AF-10 | 5.31 | 41.71 | 52.98 | 14,145 | 1.45
Poplar Lick | AF-10 | 40.18 | 26.22 | 33.60 | 9,025 | 0.70
| AF-11 | 8.17 | 37.09 | 54.74 | 13,714 | 1.28

Note: Percentages sum to more than 100 due to rounding. Dry basis calculated by mathematically removing water.

The purpose of the hearing is to obtain comments on the Environmental Assessment prepared on the following items:

1. The method of mining to be employed to obtain maximum economic recovery of the coal;

2. The impact that mining the coal in the proposed lease modification area may have on the surrounding area including, but not limited to, impacts on the environment; and

3. Factors affecting, and methods of determining, the fair market value of the coal to be mined.

The environmental assessment will be available for review on February 24, 2000, the Bureau of Land Management, Jackson Field Office, 411 Briarwood Drive, Suite 404, Jackson, Mississippi 39206. Copies of the environmental assessment will also be available at the public hearing.

SUPPLEMENTARY INFORMATION: Written requests to testify orally at the March 24, 2000, public hearing should be received at Jackson Field Office, Eastern States, Bureau of Land Management, address set out above, prior to the close of business at 4:00 p.m., on March 21, 2000.

Both oral and written comments will be received at the public hearing, but speakers will be limited to a maximum of 10 minutes each depending on the number of persons desiring to comment. The time limitation will be strictly enforced, but the complete text of prepared speeches may be filed with the presiding officer at the hearing, whether or not the speaker has been able to finish oral delivery in the allotted minutes. In addition, the public is invited to submit written comments concerning the fair market value of the coal resource to the Bureau of Land Management. Public comments will be utilized in establishing fair market value for the coal resources in the described lands. Comments should address specific factors related to the fair market value, including, but not limited to: the quantity and quality of the coal resources, the price that the mined coal would bring in the marketplace, the cost of producing the coal, the probable timing and rate of production, the interest rate at which anticipated income streams may be discounted, depreciation and other accounting factors, the expected rate of industry return, the value of the surface estate and the mining method or methods which would achieve maximum economic recovery of the coal. Documentation of similar market transactions, including location, terms and conditions, may be submitted at this time. These comments will be considered in the final determination of fair market value as determined in accordance with 43 CFR 3422.1. Should any information submitted as comments be considered to be proprietary, the information should be labeled as such and stated in the first page of the submission.

DATE AND TIME: The public hearing will be held on March 24, 2000, at 5:00 p.m. EST.

ADDRESSES: The public heading will be held in the conference room at the Days Inn, (606) 248-6860, 11252 N. 12th Street, Middlesboro, Kentucky 40965.

FOR FURTHER INFORMATION CONTACT: John Lewis, John Lewis@jfo/es/blm.gov. Bureau of Land Management, Jackson Field Office, 411 Briar Wood Drive, Suite 404, Jackson, Mississippi, 39206, (601) 977-5437 or Tim Best, Tim Best@eso/es.blm.gov. Bureau of Land Management, Eastern States 7450 Boston Boulevard, Springfield, Virginia 22153, (703) 440-1527.

Dated: February 23, 2000.
Walter Rewinski,
Deputy State Director, Division of Resources Planning, Use and Protection.

[FR Doc. 00-4601 Filed 2-25-00; 8:45 am]

BILLING CODE 4310-GJ-M